DEPARTMENT OF THE INTERIOR

Bureau of Land Management

[LLNVB02000 L14400000.ET0000, 234; NV-73931]

Notice of Proposed Withdrawal Extension and Opportunity for Public Meeting for the Historic Town of Rhyolite for Protection of Cultural and Recreational Resources, Nye County, NV

AGENCY: Bureau of Land Management, Interior.

ACTION: Notice of proposed withdrawal.

SUMMARY: The Secretary of the Interior proposes to extend for an additional 20-year term and subject to valid existing rights Public Land Order (PLO) No. 7566. The PLO withdrew 277.05 acres of public lands from settlement, sale, location, or entry under the general land laws, including the United States mining laws, but not the mineral leasing laws, subject to valid existing rights for a period of 20 years, to protect cultural and recreational resources in the historic town of Rhyolite located in Nye, County Nevada. This notice advises the public of an opportunity to comment on the proposed 20-year withdrawal extension and to request a public meeting.

DATES: Comments and requests for a public meeting regarding the withdrawal extension application must be received on or before March 20, 2023.

ADDRESSES: Comments and meeting requests should be sent to the Bureau of Land Management (BLM) Nevada State Director, 1340 Financial Blvd., Reno, NV 89502.

FOR FURTHER INFORMATION CONTACT: Frederick Marcell, BLM Nevada State Office, at (202) 389-2978, email: fmarcell@blm.gov. Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The withdrawal established by PLO No. 7566 on May 20, 2003 (68 FR 27580) is incorporated herein by reference and will expire on May 19, 2023, unless the withdrawal is extended. At the request of the BLM, the Secretary is proposing to extend PLO No. 7566 for an additional 20-year term. The withdrawal extension will allow the BLM to continue to protect cultural and recreational resources on 277.05 acres, including the most prominent features of the 1906 train depot and the town's historic cemetery.

There are no suitable alternative sites available. There are no other Federal lands in the area containing or replicating these recreational and other values.

No water rights would be needed to fulfill the purpose of this withdrawal extension.

Comments, including name and street address of respondents, will be available for public review at the BLM Nevada State Office, 1340 Financial Blvd., Reno, during regular business hours 8:00 a.m. to 4:30 p.m., Monday through Friday, except holidays.

Before including your address, phone number, email address, or other personally identifiable information in your comment, you should be aware that your entire comment—including your personally identifiable information—may be made publicly available at any time. While you may ask the BLM in your comment to withhold your personally identifiable information from public review, we cannot guarantee that we will be able to do so.

Notice is hereby given that an opportunity for a public meeting is afforded in connection with the proposed withdrawal extension. All interested persons who desire a public meeting for the purpose of being heard on the proposed withdrawal extension must submit a written request to the State Director, BLM Nevada State Office, at the address in the ADDRESSES section, within 90 days from the date of publication of this notice. If the authorized officer determines that a public meeting will be held, a notice of the date, time, and place will be published in the Federal Register, local newspapers, and on the BLM website at www.blm.gov at least 30 days before the scheduled date of the meeting.

This withdrawal extension proposal will be processed in accordance with the regulations set forth in 43 CFR 2310.4.

(Authority: 43 CFR 2310.4.)

Jon K. Raby,
State Director, Nevada.

[FR Doc. 2022-27412 Filed 12-16-22; 8:45 am]

BILLING CODE 4310-22-P